DEPARTMENT OF DEFENSE

Office of the Secretary

[Docket ID: DoD-2013-OS-0188]

Proposed Collection; Comment Request

AGENCY: Office of the Under Secretary of Defense for Personnel and Readiness, DoD.

ACTION: Notice.

SUMMARY: In compliance with Section 3506(c)(2)(A) of the Paperwork Reduction Act of 1995, the Office of the Under Secretary of Defense for Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 4, 2013

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Department of Defense Human Resources Activity (DHRA), Policy and Program Support Office, 4800 Mark Center Drive, Alexandria, VA 22350-4000, ATTN: Mr. Sam Yousef, or call 571-372-1939.

SUPPLEMENTARY INFORMATION:

Title; Associated Form; and OMB Number: Declaration/Dissolution of a Same-Sex Domestic Partnership for DEERS Enrollment; DD x653 and DD x654; OMB Control Number 0704-TBD.

Needs and Uses: Benefits shall be extended to same-sex domestic partners and, where applicable, children of same-sex domestic partners, once the DoD civilian and his/her same-sex domestic partner have signed a declaration attesting to the existence of their committed relationship. Notification, by a signed dissolution, must be made not later than 30 days after (a) the date of dissolution of the same-sex domestic partnership, or (b) the date the partnership no longer meets the eligibility requirements.

Affected Public: Same-sex domestic partners and their dependents of DoD civilians.

Title: Declaration of a Same-Sex Domestic Partnership for DEERS Enrollment.

Annual Burden Hours: 264 hours.

Number of Respondents: 7,900.

Responses per Respondent: 1.

Average Burden per Response: 2 minutes.

Frequency: On occasion.

Title: Dissolution of a Same-Sex Domestic Partnership for DEERS Enrollment.

Annual Burden Hours: 12 hours.

Number of Respondents: 350.

Responses per Respondent: 1.

Average Burden per Response: 2 minutes.

Frequency: On occasion.

The Department of Defense has identified family member and dependent benefits that may lawfully be provided to same-sex domestic partners and their children through modifications to DoD policies and regulations. These benefits will be provided once the DoD civilian and his/her same-sex domestic partner have signed a declaration attesting to the existence of their committed relationship, and the benefits will cease upon dissolution of their committed relationship. Notification must be made no later than 30 days after (a) the date of dissolution of the same-sex domestic partnership, or (b) the date the partnership no longer meets the eligibility requirements.

Dated: August 29, 2013.
Aaron Siegel,
Alternate OSD Federal Register Liaison Officer, Department of Defense.

[FR Doc. 2013-21502 Filed 9-4-13; 8:45 am]

BILLING CODE 5001-06-P